DEPARTMENT OF THE TREASURY

Office of Thrift Supervision

Key West Bank, Key West, Florida; Notice of Appointment of Receiver

Notice is hereby given that, pursuant to the authority contained in section 5(d)(2) of the Home Owners' Loan Act, the Office of Thrift Supervision has duly appointed the Federal Deposit Insurance Corporation as sole Receiver for Key West Bank, Key West, Florida, (OTS No. 14929) on March 26, 2010.

Dated: March 30, 2010.
By the Office of Thrift Supervision.
Sandra E. Evans,
Federal Register Liaison.

[FR Doc. 2010-7518 Filed 4-5-10; 8:45 am]

BILLING CODE 6720-01-M